DEPARTMENT OF THE INTERIOR

National Park Service

National Register of Historic Places; Notification of Pending Nominations and Related Actions

Nominations for the following properties being considered for listing or related actions in the National Register were received by the National Park Service before March 21, 2009.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by April 20, 2009.

Paul Loether,
Chief, National Register of Historic Places/National Historic Landmarks Program.

ARIZONA

Maricopa County

Dowdy, George O., Rental Cottage, 6818 N. 60th Ave., Glendale, 09000246

CALIFORNIA

Alameda County

Women's Athletic Club of Alameda County, 525 Bellevue Ave., Oakland, 09000247

Merced County

Merced Theatre, 301 W. 17th St., Merced, 09000248

COLORADO

Clear Creek County

Mill City House, 247 Co. Rd. 308, Dumont, 09000250

El Paso County

Van Briggle Pottery Company, 1125 Glen Ave./231 W. Uintah St., Colorado Springs, 09000249

FLORIDA

Alachua County

Mission San Franacisco de Potano, Address Restricted, Gainesville, 09000251

MASSACHUSETTS

Worcester County

Safety Fund National Bank, (Downtown Architecture of H.M. Francis, Fitchburg, MA) 470 Main St., Fitchburg, 09000252

MISSOURI

St. Louis Independent City

Bel Air Motel, 4630 Lindell, St. Louis, 09000253

NEW HAMPSHIRE

Hillsborough County

Wilton Town Hall, 42 Main St., Wilton, 09000254

NEW YORK

Greene County

Methodist Episcopal Church of Windham Centre, 1843 NY 23, Windham, 09000255

Kings County

Congregation Beth Abraham, 203 E. 37th St., Brooklyn, 09000256

New York County

New York Telephone Company Building, 140 W. St., New York, 09000257

Park and Tilford Building, 310 Lenox Ave., New York, 09000258

Onondaga County

Temple Society of Concord, 910 Madison St., Syracuse, 09000259

Rockland County

Contempora House, 88 S. Mountain Rd., New City, 09000260

NORTH CAROLINA

Buncombe County

Baird, Zebulon H., House, 460 Weaverville Rd., Weaverville, 09000261

Thomas Chapel A.M.E. Zion Church, 300 Cragmont Rd., Black Mountain, 09000262

Durham County

Holloway Street Historic District (Boundary Increase), (Durham MRA) Roughly bounded by Holloway, Elizabeth, Primitive, and Queen Sts., and Mallard Ave., Durham, 09000263

Robeson County

Asbury Methodist Church, SE. side US Hwy. 301 N., .10 mi. SW. of NC 1154, Raynham, 09000264

VERMONT

Windham County

Westminster Terrace Historic District, Along Westminster Terr. and Westminster St., Rockingham, 09000265

Request for REMOVAL has been made for the following resource:

TENNESSEE

Washington County

Taylor, Christopher, Cabin Main, St., Jonesboro, 71000839

[FR Doc. E9-7530 Filed 4-2-09; 8:45 am]

BILLING CODE 4312-51-P